INTERNATIONAL TRADE COMMISSION

[Inv. No. 337-TA-588]

In the Matter of Certain Digital Multimeters, and Products With Multimeter Functionality; Notice of Investigation

AGENCY: International Trade Commission.

ACTION: Institution of investigation pursuant to 19 U.S.C. 1337.

SUMMARY: Notice is hereby given that a complaint was filed with the U.S. International Trade Commission on October 6, 2006, under section 337 of the Tariff Act of 1930, as amended, 19 U.S.C. 1337, on behalf of Fluke Corporation of Everett, Washington. Letters supplementing the complaint were filed on October 27 and October 30, 2006. The complaint, as supplemented, alleges violations of section 337 in the importation into the United States, the sale for importation, and the sale within the United States after importation of certain digital multimeters, and products with multimeter functionality by reason of infringement of U.S. Trademark Registration No. 2,796,480 and also by reason of infringement of trade dress, the threat or effect of which is to destroy or substantially injure an industry in the United States. The complaint further alleges that there exists an industry in the United States with respect to the asserted intellectual property rights.

The complainant requests that the Commission institute an investigation and, after the investigation, issue a permanent general exclusion order and permanent cease and desist orders.

ADDRESSES: The complaint and supplements, except for any confidential information contained therein, are available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its internet server at http://www.usitc.gov. The public record for this investigation may be viewed on the Commission's electronic docket (EDIS) at http://edis.usitc.gov.

FOR FURTHER INFORMATION CONTACT: Anne Goalwin, Esq., Office of Unfair Import Investigations, U.S. International Trade Commission, telephone (202) 205-2574.

Authority: The authority for institution of this investigation is contained in section 337 of the Tariff Act of 1930, as amended, and in section 210.10 of the Commission's Rules of Practice and Procedure, 19 CFR 210.10 (2006).

Scope of Investigation: Having considered the complaint, the U.S. International Trade Commission, on November 6, 2006, ordered that—

(1) Pursuant to subsection (b) of section 337 of the Tariff Act of 1930, as amended, an investigation be instituted to determine:

(a) Whether there is a violation of subsection (a)(1)(C) of section 337 in the importation into the United States, the sale for importation, or the sale within the United States after importation of certain digital multimeters, or products with multimeter functionality, by reason of infringement of U.S. Trademark Registration No. 2,796,480, and whether an industry in the United States exists as required by subsection (a)(2) of section 337, or

(b) whether there is a violation of subsection (a)(1)(A) of section 337 in the importation into the United States, the sale for importation, or the sale within the United States after importation of certain digital multimeters, or products with multimeter functionality, by reason of infringement of trade dress, the threat or effect of which is to destroy or substantially injure an industry in the United States;

(2) For the purpose of the investigation so instituted, the following are hereby named as parties upon which this notice of investigation shall be served:

(a) The complainant is—Fluke Corporation, 6920 Seaway Boulevard, Everett, Washington 98203.

(b) The respondents are the following entities alleged to be in violation of section 337, and are the parties upon which the complaint is to be served:

Altadox, Inc., 309 E Las Flores Avenue, Arcadia, CA 91006.

Circuit Specialists, Inc., 220 S Country Club Drive #2, Mesa, AZ 85210.

Digitek Instruments Co., Ltd., Room 1905, Nan Fung Centre, 264-298, Castle Peak Road, Tsuen Wan, N.T., Hong Kong.

Electronic Specialties, Inc., 2449 Piece Drive, Spring Grove, IL 60081.

Electronix Express, A Division of R.S.R. Electronics, Inc., 365 Blair Road, Avenel, New Jersey 07001.

Elenco Electronics, Inc., 150 W. Carpenter Avenue, Wheeling, IL 60090.

HandsOnTools, 1001-A E Harmony Rd, Suite 332, Fort Collins, CO 80525.

Harbor Freight Tools, 3491 Mission Oaks Blvd., Camarillo, CA 93011.

Jameco Electronics, 1355 Shoreway Road, Belmont, CA 94002.

Kaito Electronics, Inc., 5185 Cliffwood Drive, Montclair, CA 91763.

Parts Express, 725 Pleasant Valley Drive, Springboro, Ohio 45066.

Precision Mastech Enterprises Co., Room 1708-9, Hewlett Centre, 54 Hoi, Yuen Road, Kwun Tong, Kowloon, Hong Kong.

Shenzhen Everbest Machinery, Industry Co., Ltd., Room 302, No. 5, Kefa Road, Science Industry Park, Shenzhen, China.

ShenZhen Hongda Electronic Co., Ltd., East. 6/F, 14 Bagua-4 Road, Futian District, Shenzhen, China.

Shenzhen Victor Hi-Tech Co., Ltd., 3/F, Building 412, Bagua 4th Road, Futian District, Shenzhen City, Guangdong Province, China, 518029.

Sinometer Instruments Co. Ltd., Ginza International Building, 1056, Shennan Avenue, Shenzhen, China.

TechBuys, LLC, 1813 Yeager Avenue, La Verne, CA 91750.

Velleman Inc., 7354 Tower Street, Fort Worth, TX 76118.

(c) The Commission investigative attorney, party to this investigation, is Anne Goalwin, Esq., Office of Unfair Import Investigations, U.S. International Trade Commission, 500 E Street, SW., Room 401-R, Washington, DC 20436; and

(3) For the investigation so instituted, the Honorable Charles E. Bullock is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of a limited exclusion order or cease and desist order or both directed against the respondent.

By order of the Commission.
Issued: November 6, 2006.
Marilyn R. Abbott,
Secretary to the Commission.

[FR Doc. E6-19073 Filed 11-9-06; 8:45 am]

BILLING CODE 7020-02-P